DEPARTMENT OF COMMERCE

International Trade Administration

[A-570-601]

Tapered Roller Bearings and Parts Thereof, Finished and Unfinished, From the People's Republic of China: Preliminary Results of Antidumping Administrative Review, Rescission, in Part, and Preliminary Determination of No Shipments; 2023-2024

AGENCY: Enforcement and Compliance, International Trade Administration, Department of Commerce.

SUMMARY: The U.S. Department of Commerce (Commerce) is rescinding, in part, the administrative review of the antidumping duty (AD) order on tapered roller bearings and parts thereof, finished and unfinished (TRBs) from the People's Republic of China (China) for the period of review (POR) June 1, 2023, through May 31, 2024. Further, Commerce preliminarily finds that Shanghai Tainai Bearing Co., Ltd. (Tainai) had no shipments during the POR and C&U Group Shanghai Bearing Co., Ltd. (C&U Shanghai) did not qualify for a separate rate and therefore, is considered part of the China-wide entity. Interested parties are invited to comment on these preliminary results.

DATES: Applicable June 20, 2025.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On February 26, 1990, Commerce published in the Federal Register the AD order on TRBs from China.¹ On June 3, 2024, Commerce published in the Federal Register a notice of opportunity to request an administrative review of the Order.² On July 1, 2024, JTEKT Bearings North America LLC (the domestic interested party) and Changshan Peer Bearing Co., Ltd. (CPZ) submitted timely requests that Commerce conduct an administrative review of the Order with respect to CPZ, Tainai, C&U Group Shanghai Bearing Co., Ltd. (C&U Shanghai Bearing), Hangzhou C&U Metallurgy Bearing Co., Ltd. (C&U Metallurgy Bearing), Sichuan C&U Bearing Co., Ltd. (Sichuan C&U Bearing), Hangzhou C&U Automotive Bearing Co., Ltd. (C&U Automotive Bearing), and Hangzhou C&U Bearing Co., Ltd. (Hangzhou C&U Bearing).³ On July 23, 2024, CPZ withdrew its request for a review.⁴

¹ See Tapered Roller Bearings from the People's Republic of China; Amendment to Final Determination of Sales at Less Than Fair Value and Antidumping Duty Order in Accordance with Decision Upon Remand, 55 FR 6669 (February 26, 1990) (Order).

² See Antidumping or Countervailing Duty Order, Finding, or Suspended Investigation; Opportunity to Request Administrative Review and Join Annual Inquiry Service List, 89 FR 47518 (June 3, 2024).

³ See CPZ's Letter, “Request for Administrative Review,” dated July 1, 2024; see also Domestic Interested Party's Letter, “Request for Administrative Review,” dated July 1, 2024.

⁴ See CPZ's Letter, “Withdrawal of Request for Administrative Review,” dated July 23, 2024.

On July 29, 2024, Commerce published in the Federal Register a notice of initiation of administrative review with respect to imports of TRBs exported and/or produced by Tainai, C&U Shanghai Bearing, CPZ, C&U Metallurgy Bearing, Sichuan C&U Bearing, C&U Automotive Bearing, and Hangzhou C&U Bearing in accordance with section 751(a) of the Tariff Act of 1930, as amended (the Act), and 19 CFR 351.221(c)(1)(i).⁵ On August 7, 2024, we placed on the record U.S. Customs and Border Protection (CBP) data for entries of TRBs from China during the POR, showing suspended entries during the POR shipped by C&U Shanghai Bearing and invited interested parties to comment.⁶ The domestic interested party submitted comments to Commerce regarding the CBP data on August 14, 2024.⁷ On August 16, 2024, CPZ submitted an additional letter requesting withdraw of its request for review.⁸ On August 20, 2024, Tainai submitted a certification of no shipments.⁹

⁵ See Initiation of Antidumping and Countervailing Duty Administrative Reviews, 89 FR 60871 (July 29, 2024) (Initiation Notice).

⁶ See Memorandum, “Release of U.S. Customs and Border Protection Entry Data,” dated August 7, 2024 (CBP Data Memo).

⁷ See Domestic Interested Party's Letter, “JTEKT Bearings North America LLC's Comments on CBP Data Release,” dated August 14, 2025.

⁸ See CPZ's Letter, “Withdrawal of Request for Administrative Review,” dated August 16, 2024.

⁹ See Tainai's Letter, “No Shipment Certification,” dated August 20, 2024.

On December 9, 2024, Commerce tolled the deadline for all administrative reviews by 90 days.¹⁰ On May 8, 2025, Commerce notified interested parties of our intent to rescind this administrative review with respect to the four companies that have no reviewable suspended entries.¹¹ No party submitted comments regarding the Partial Intent to Rescind.

¹⁰ See Memorandum, “Tolling of Deadlines for Antidumping and Countervailing Duty Proceedings,” dated December 9, 2024.

¹¹ See Memorandum, “Notice of Intent to Rescind Review, in Part,” dated May 8, 2025 (Partial Intent to Rescind).

Scope of the Order

Imports covered by the Order are shipments of tapered roller bearings and parts thereof, finished and unfinished, from China; flange, take up cartridge, and hanger units incorporating tapered roller bearings; and tapered roller housings (except pillow blocks) incorporating tapered rollers, with or without spindles, whether or not for automotive use. These products are currently classifiable under Harmonized Tariff Schedule of the United States (HTSUS) subheadings 8482.20.00, 8482.91.00.50, 8482.99.15, 8482.99.45, 8483.20.40, 8483.20.80, 8483.30.80, 8483.90.20, 8483.90.30, 8483.90.80, 8708.70.60.60, 8708.99.2300, 8708.99.27.00, 8708.99.4100, 8708.99.4850, 8708.99.6890, 8708.99.8115, and 8708.99.8180. Although the HTSUS item numbers are provided for convenience and customs purposes, the written description of the scope of the Order is dispositive.

Rescission of Review, in Part

Pursuant to 19 CFR 351.213(d)(1), Commerce will rescind an administrative review, in whole or in part, if all parties that requested a review withdraw their requests within 90 days of the publication date of the notice of initiation of the requested review in the Federal Register. As noted above, CPZ timely withdrew its request for an administrative review of itself. Because no other party requested a review of CPZ, consistent with 19 CFR 351.213(d)(1), Commerce is rescinding this review, in part, with respect to CPZ.

Pursuant to 19 CFR 351.213(d)(3), it is Commerce's practice to rescind an administrative review of an AD order when there are no reviewable entries of subject merchandise during the POR for which liquidation is suspended.¹² Normally, upon completion of an administrative review, the suspended entries are liquidated at the AD assessment rate calculated for the review period.¹³ Therefore, for an administrative review to be conducted, there must be a reviewable, suspended entry that Commerce can instruct CBP to liquidate at the AD assessment rate calculated for the review period.¹⁴

¹² See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

¹³ See 19 CFR 351.212(b)(1).

¹⁴ See 19 CFR 351.213(d)(3).

The record indicates there were no entries of subject merchandise for C&U Metallurgy Bearing, Sichuan C&U Bearing, C&U Automotive Bearing, and Hangzhou C&U Bearing during the POR.¹⁵ In particular, CBP data placed on the record at the outset of this proceeding indicates no entries of merchandise from these companies.¹⁶ Accordingly, in the absence of suspended entries of subject merchandise during the POR, we are hereby rescinding this administrative review, with respect to these companies, in accordance with 19 CFR 351.213(d)(3).

¹⁵ See CBP Data Memo.

¹⁶ Id.

Preliminary Determination of No Shipments

Tanai, an exporter that received a separate rate in a previous segment of the proceeding and is subject to this review, reported that it had no shipments of subject merchandise during the POR. We requested that CBP report any contrary information. Our analysis of the CBP data and additional information collected from CBP indicates that all entries suspended during the POR were produced by Tanai, exported by C&U Shanghai Bearing, and entered under the China-wide rate.¹⁷ The record does not indicate that Tanai was involved in the exportation of its products to the United States.

¹⁷ See Memorandum, “Release of U.S. Customs and Border Protection Information,” dated December 19, 2024.

Therefore, based on our analysis of information from CBP and the certification provided by Tainai, we preliminarily determine that Tanai made no shipments of subject merchandise to the United States during the POR. Further, consistent with Commerce's practice, we find that it is not appropriate to rescind the review with respect to Tanai, but rather to complete the review and issue appropriate assessment instructions to CBP based on the final results of review.¹⁸

¹⁸ See Non-Market Economy Antidumping Proceedings: Assessment of Antidumping Duties,76 FR 65694 (October 24, 2011).

China-Wide Entity

Because C&U Shanghai Bearing does not have a separate rate nor did it file a separate rate application in this proceeding, it is ineligible for a separate rate and we are unable to select it for individual examination.¹⁹ Accordingly, Commerce finds that C&U Shanghai Bearing, a company under review, has not established eligibility for a separate rate and is considered to be part of the China-wide entity for these preliminary results.

¹⁹ See Initiation Notice, 89 FR at 60873.

Commerce's policy regarding conditional review of the China-wide entity applies to this administrative review.²⁰ Under this policy, the China-wide entity will not be under review unless a party specifically requests, or Commerce self-initiates, a review of the entity. Because no party requested a review of the China-wide entity, the entity is not under review and the entity's rate of 92.84 percent is not subject to change.

²⁰ See Antidumping Proceedings: Announcement of Change in Department Practice for Respondent Selection in Antidumping Duty Proceedings and Conditional Review of the Nonmarket Economy Entity in NME Antidumping Duty Proceedings, 78 FR 65963 (November 4, 2013).

Disclosure

Normally, Commerce will disclose the calculations used in its analysis to parties in this review within five days of the date of publication of the notice of preliminary results in the Federal Register, in accordance with 19 CFR 351.224(b). However, here Commerce only applied the China-wide rate, which was established in the underlying investigation,²¹ to C&U Shanghai Bearing. Thus, there are no calculations to disclose.

²¹ See Tapered Roller Bearings and Parts Thereof, Finished and Unfinished, from the People's Republic of China: Final Results of Antidumping Duty Administrative Review, 74 FR 3987, 3989 (January 22, 2009).

Public Comment

Case briefs or other written comments may be submitted to the Assistant Secretary for Enforcement and Compliance. Pursuant to 19 CFR 351.309(c)(1)(ii), we have modified the deadline for interested parties to submit case briefs to Commerce to no later than 21 days after the date of the publication of this notice.²² Rebuttal briefs, limited to issues raised in the case briefs, may be filed not later than five days after the date for filing case briefs.²³ Parties who submit case briefs or rebuttal briefs in this proceeding are encouraged to submit with each argument: (1) a statement of the issue; and (2) a table of authorities.²⁴ Case and rebuttal briefs should be filed electronically via Enforcement and Compliance's Antidumping and Countervailing Duty Centralized Electronic Service System (ACCESS). ACCESS is available to registered users at https://access.trade.gov.

²² See 19 CFR 351.309.

²³ See 19 CFR 351.309(d); see also Administrative Protective Order, Service, and Other Procedures in Antidumping and Countervailing Duty Proceedings, 88 FR 67069, 67077 (September 29, 2023) (APO and Service Final Rule).

²⁴ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²⁵ Further, we request that interested parties limit their public executive summary of each issue to no more than 450 words, not including citations. We intend to use the public executive summaries as the basis of the comment summaries included in the issues and decision memorandum that will accompany the final results in this administrative review. We request that interested parties include footnotes for relevant citations in the public executive summary of each issue.

²⁵ We use the term “issue” here to describe an argument that Commerce would normally address in a comment of the Issues and Decision Memorandum.

Pursuant to 19 CFR 351.310(c), interested parties who wish to request a hearing must submit a written request to the Assistant Secretary for Enforcement and Compliance, filed electronically via ACCESS. Requests should contain: (1) the party's name, address, and telephone number; (2) the number of participants and whether any participant is a foreign national; and (3) a list of issues to be discussed. Issues raised in the hearing will be limited to those raised in the respective case briefs. An electronically-filed hearing request must be received successfully in its entirety via ACCESS by 5:00 p.m. Eastern Time within 30 days after the date of publication of this notice. If a request for a hearing is made, Commerce intends to hold the hearing at a time and date to be determined.²⁶

²⁶ See 19 CFR 351.310(d).

All submissions, including case and rebuttal briefs, as well as hearing requests, must be filed electronically using ACCESS.²⁷ An electronically filed document must be received successfully in its entirety in ACCESS by 5:00 p.m. Eastern Time on the established deadline. Note that Commerce has amended certain of its requirements pertaining to the service of documents in 19 CFR 351.303(f).²⁸

²⁷ See 19 CFR 351.303.

²⁸ See APO and Service Final Rule.

Assessment Rates

For the companies for which this review is being rescinded Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

When Commerce determines that an exporter under review made no shipments of subject merchandise during the POR, upon issuing the final results, Commerce will instruct CBP to liquidate any suspended entries of subject merchandise that entered under that exporter's cash deposit requirement, i.e., under the exporter's CBP case number, during the POR at the weighted-average dumping margin for the China-wide entity (i.e., 92.84 percent).²⁹

²⁹ For a full discussion of this practice, see Non-Market Economy Antidumping Proceedings: Assessment of Antidumping Duties, 76 FR 65694 (October 24, 2011).

With respect to Tainai, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the final results, if we continue to treat C&U Shanghai Bearing as part of the China-wide entity, we will instruct CBP to apply an ad valorem assessment rate of 92.84 percent to all entries of subject merchandise during the POR which were produced and/or exported by this company. The final results of this review shall be the basis for the assessment of antidumping duties on entries of merchandise covered by the final results of this review and for future deposits of estimated duties, where applicable.

Cash Deposit Rates

The following cash deposit requirements will be effective upon publication of the final results of this administrative review for shipments of the subject merchandise from China entered, or withdrawn from warehouse, for consumption on or after the publication date, as provided by sections 751(a)(2)(C) of the Act: (1) for all Chinese exporters of subject merchandise that have not been found to be entitled to a separate rate, the cash deposit rate will be the existing rate for the China-wide entity of 92.84 percent; and (2) for all non-China exporters of subject merchandise which have not received their own rate, the cash deposit rate will be the rate applicable to the China exporter that supplied that non-Chinese exporter. These cash deposit requirements, when imposed, shall remain in effect until further notice.

Final Results of Review

Unless otherwise extended, Commerce intends to issue the final results of this administrative review, including the results of its analysis of issues raised by the parties in the written comments, within 120 days of publication of these preliminary results in the Federal Register, no later than 120 days after the date of publication of this notice, unless otherwise extended.³⁰

³⁰ See section 751(a)(3)(A) of the Act; and 19 CFR 351.213(h).

Notification Regarding Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: June 2, 2025.
Christopher Abbott,
Deputy Assistant Secretary for Policy and Negotiations, performing the non-exclusive functions and duties of the Assistant Secretary for Enforcement and Compliance.

[FR Doc. 2025-11336 Filed 6-18-25; 8:45 am]

BILLING CODE 3510-DS-P